DEPARTMENT OF THE INTERIOR

National Park Service

[NPS-WASO-PVE-LWCF-NPS0028089; 1PPWOSLAD00 PCA00SA82.Y00000 19XP503582 (PS.SSLAD0019.00.1); OMB Control Number 1024-0031]

Agency Information Collection Activities; Submission to the Office of Management and Budget for Review and Approval; Land and Water Conservation Fund State Assistance Program

AGENCY: National Park Service, Interior.

ACTION: Notice of Information Collection; request for comment.

SUMMARY: In accordance with the Paperwork Reduction Act of 1995, we, the National Park Service (NPS) are proposing to renew an information collection with revisions.

DATES: Interested persons are invited to submit comments on or before March 2, 2020.

ADDRESSES: Send written comments on this information collection request (ICR) to the Office of Management and Budget's (OMB) Desk Officer for the Department of the Interior by email at OIRA_Submission@omb.eop.gov; or by facsimile at 202-395-5806. Please provide a copy of your comments to Phadrea Ponds, Acting Information Collection Clearance Officer, National Park Service, 1201 Oakridge Drive, Fort Collins, CO 80525; or by email at phadrea_ponds@nps.gov. Please reference OMB Control Number 1024-0031 in the subject line of your comments.

FOR FURTHER INFORMATION CONTACT: To request additional information about this ICR, contact Elisabeth Fondriest, Recreation Grants Chief, 1849 C Street NW (2225), Washington, DC 20240; or by email at elisabeth_fondriest@nps.gov; or by telephone at 202-354-6916. Please reference OMB Control Number 1024-0031 in the subject line of your comments. You may also view the ICR at http://www.reginfo.gov/public/do/PRAMain.

SUPPLEMENTARY INFORMATION: In accordance with the Paperwork Reduction Act of 1995, we provide the general public and other federal agencies with an opportunity to comment on new, proposed, revised, and continuing collections of information. This helps us assess the impact of our information collection requirements and minimize the public's reporting burden. It also helps the public understand our information collection requirements and provide the requested data in the desired format.

On May 14, 2019, we published a Federal Register notice soliciting comments on this collection of information for 60 days, ending on July 15, 2019 (84 FR 21357). We received one comment from the public in response to that notice. This comment did not necessitate any revisions to the information collection.

We are again soliciting comments on the proposed ICR described below. We are especially interested in public comment addressing the following issues: (1) Is the collection necessary to the proper functions of the NPS; (2) will this information be processed and used in a timely manner; (3) is the estimate of burden accurate; (4) how might the NPS enhance the quality, utility, and clarity of the information to be collected; and (5) how might the NPS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The Land and Water Conservation Fund Act of 1965 (LWCF Act) (54 U.S.C. 200305) was enacted to help preserve, develop, and ensure access for the public to outdoor recreation opportunities. The LWCF Act provides funds for and authorizes federal assistance to the States for planning, acquisition, and development of needed land and water areas and facilities. In accordance with the LWCF Act, the National Park Service (we, NPS) administers the LWCF State Assistance Program, which provides matching grants to States and through the States to local units of government. As used in this information collection request, the term “States” includes the 50 States; the Commonwealths of Puerto Rico and the Northern Mariana Islands; the District of Columbia; and the Territories of Guam, the U.S. Virgin Islands, and American Samoa.

LWCF grants are provided to States on a matching basis for up to 50 percent of the total project-related allowable costs. Grants to eligible insular areas may be for 100 percent assistance. States establish their own priorities and criteria and award their grant money through a competitive selection process based on a state-wide recreation plan. Payments for all projects are made to the State agency that is authorized to accept and administer funds paid for approved projects. Local units of government participate in the program as sub-grantees of the State, with the State retaining primary grant compliance responsibility.

The following information is collected to administer the LWCF State Assistance Program:

Application (Forms 10-903 and 10-904). States may seek financial assistance for acquisition, development, or planning projects to be conducted under the LWCF Act. To receive a grant, States must submit an application to NPS for review and approval. We use the information provided in applications to determine eligibility under the authorizing legislation and to select those projects that will provide the highest return on the federal investment. Project proposals for LWCF grants comprise the following:

• NPS Form 10-902 Project Agreement, Request for Discontinuation. Previously, Form 10-902 was used to document the agreement between the NPS and the State for accomplishing the project, binding the Federal Government and the State to certain obligations through its acceptance of federal assistance. With this renewal the NPS requests to discontinue use of this form in favor of a standard grant and cooperative agreement template that is used across the NPS, which is prepared by LWCF State Assistance Program staff.

• NPS Form 10-903 Description and Notification Form (DNF). The State must submit a DNF for each park or other recreation area that will be assisted with grant funds. This form provides data about the assisted project site(s), such as location, acreages and details about improvements, as understood at the beginning of each grant project.

• NPS Form 10-904 Grant Application and Revision Form, Request for Form Revision. In response to State and NPS LWCF Program staff suggestions, the NPS is proposing to revise the form previously named 10-904 Proposal Description and Environmental Screening Form (PD/ESF) to create two sub-versions, one for grant-related actions (renamed to Form 10-904, Grant Application and Revision Form) and one for post-grant stewardship and compliance actions (Form 10-904A, Compliance and Stewardship Form). Both versions of the form will continue to provide administrative and descriptive information federal decision-makers need to understand the nature of the proposed grant-funded project or subsequent amendments, including conversions and other non-recreation uses.

The revised NPS Form 10-904, renamed the Grant Application and Revision Form, will be required from States submitting applications for a new project and any requested amendments to the subsequent grant agreement.

• Budget Narrative. Project sponsors must prepare estimates of the cost(s) of the proposed grant project.

• Pre-award On-site Inspection Report. The State must physically inspect proposed project sites prior to the award of grant funds and report on the findings. The inspection must be conducted in accord with the onsite inspection agreement between the State and NPS. See additional information under Reports, below.

• Maps and other supporting documentation. Applicants must develop and submit two maps: One depicting the general location of the park as well as the entrance area; the other delineating the specific boundary of the outdoor recreation area that will be protected for outdoor recreation purposes and subject to the conversion provisions at 54 U.S.C. 200305(f). Applicants should submit other documents that have a significant bearing on the project.

Grant Amendment (Forms 10-903 and 10-904). After initial award and over the course of the award performance period, a State or project sponsor may seek to amend the agreed-upon terms (e.g., award end date, scope of work, or budget). NPS must review and approve such changes. To describe the reasons the change(s) is/are needed and the impact(s) to the overall project, States must submit an amendment request on behalf of themselves or the local sponsor, which depending on the nature of the change could comprise the following elements:

1. Request and recommendation letter from the State Liaison Officer (SLO),

2. Revised SF-424 forms and budget narrative,

3. Revised boundary map, and/or

4. Revised 10-903, DNF.

• NPS Form 10-904 Grant Application and Revision Form. The revised NPS Form 10-904 (PD/ESF), renamed the Grant Application and Revision Form, will be required from States requesting amendments to the subsequent grant agreement. The revised form will constitute the cover and certification pages, Steps 1 through 3A, plus Steps 5 through 7 of the previous version of Form 10-904—PD/ESF.

• NPS Form 10-903 Description and Notification Form. A revised DNF may be required for changes in scope that significantly alter the planned facility development or the acreage of the site or area to be protected under 6(f).

Conversion of Use and Other Post-Award Stewardship Issues (Forms 10-902A, 10-903, and 10-904A). In accordance with 54 U.S.C. 200305(f) and implementing regulations found at 36 CFR 59, no lands acquired or developed with LWCF funds can be converted to other than public outdoor recreation uses without the approval of the Secretary of the Interior. States must submit a formal request to the appropriate NPS Regional Office with documentation to substantiate that: (a) All alternatives to the conversion have been evaluated and then rejected on a sound basis; (b) required replacement land being offered as a substitute is of reasonably equivalent location and recreational usefulness as the assisted site proposed for conversion; (c) the property proposed for substitution meets the eligibility requirements for LWCF assistance; and (d) replacement property is of at least equal fair market value as established by an appraisal developed in accordance with federal appraisal standards. Required documentation is similar to that submitted for grant applications and amendment requests. Additional documents include maps showing the existing protected recreation area and delineating the area to be converted and of the proposed replacement property.

• NPS Form 10-904A Compliance and Stewardship Form, Request for New Form. As part of the revision to Form 10-904, this is a new form request. The proposed form will be required from States post-grant completion when seeking approval to convert a property from recreation use or for a non-recreation use of the site. The new form will constitute the cover and certification pages, Steps 3B through 4, plus Steps 5 through 7 of the previous version of Form 10-904—PD/ESF. In addition, some information previously requested in a narrative format will now be requested in a question and answer format.

• NPS Form 10-902A Project Amendment Agreement. With this renewal the NPS is requesting to discontinue use of the 10-902A for grant amendments in favor of a standard grant and cooperative agreement amendment template that is used across the NPS, which is prepared by LWCF State Assistance Program staff. Form 10-902A will continue to be used for compliance and stewardship actions. It is required to alter the signed Project Agreement for conversion requests. When the amendment is signed by the NPS, it becomes part of the agreement and supersedes it in the specified matters.

Statewide Comprehensive Outdoor Recreation Plan (SCORP). The LWCF Act requires that to be eligible for LWCF financial assistance, each State must prepare and submit a SCORP to NPS for approval. The NPS requires a new or updated SCORP at least once every 5 years. The SCORP must include:

• The name of the State agency that will have the authority to represent and act for the State.

• An evaluation of the demand for and supply of outdoor recreation resources and facilities in the State.

• A program for the implementation of the plan.

• Certification by the Governor that ample opportunity for public participation has taken place in plan development.

Open Project Selection Process (OPSP). Each State must develop an OPSP that provides objective criteria and standards for grant selection that are explicitly based on each State's priority needs for the acquisition and development of outdoor recreation resources as identified in the SCORP. The OPSP is the connection between the SCORP and the use of LWCF grants to assist State efforts in meeting high priority outdoor recreation resource needs. To ensure continuing close ties between the SCORP and the OPSP, States must review project selection criteria each time that a new or amended SCORP is approved by the NPS. States must submit to the NPS a revised set of OPSP criteria that conform to any changes in SCORP priorities or submit an appropriate certification that no such revisions are necessary.

Request for a Public Facility (Form 10-904A). Except for certain kinds of recreation-supporting facilities (e.g., restrooms, visitor information centers), project sponsors must seek NPS approval when constructing an indoor structure on a property that has received LWCF assistance. In most cases, development of an indoor structure would constitute a conversion, but, in certain cases NPS may approve them where it can be shown that they will enhance the outdoor recreation uses of a park and there will be a net gain in benefits to the outdoor recreating public using that park. The request describes the nature of the facility, how it will support and enhance the outdoor recreation use of the site, and ownership and management; as well as a copy of a revised boundary map indicating the location of the proposed facility.

Request for Temporary Non-Conforming Use (Form 10-904A). Project sponsors must seek NPS approval for the temporary (up to 6 months) use of an LWCF-assisted site for purposes that do not conform to the public outdoor recreation requirements. Besides Form 10-904A, the State's proposal to NPS must include:

1. Request and recommendation letter from the SLO, and

2. Acknowledgement by the SLO that a full conversion will result if the temporary use has not ceased after 6 months.

Request for Significant Change of Use (Form 10-904A). Project sponsors must seek NPS approval to change the use of an assisted site from one eligible use to another when the proposed use significantly contravenes the plans or intent for the area as they were outlined in the original LWCF application for federal assistance; e.g., changing a site's use from passive to active recreation.

Request to Shelter Facilities (Form 10-904A). Project sponsors must seek NPS approval to construct a new outdoor recreation facility, or partially or fully enclose an existing facility, such as a pool or ice rink, to shelter them from severe climatic conditions and thereby increase the recreational opportunities. This approval is required whether seeking to use LWCF grant funds for this purpose or not.

Extension of the 3-year Limit for Delayed Outdoor Recreation Development. Project sponsors must seek NPS approval to continue a non-recreation use beyond the 3-year limit for acquisition projects that were previously approved with delayed outdoor recreation development. The State must submit a written request and justification for such an extension to NPS before the end of the initial 3-year period. This request must include:

1. A full description of the property's current public outdoor recreation resources and the public's current ability to use the property; and

2. An update of the project sponsor's plans and schedule for developing outdoor recreation facilities on the property.

Reports. We use this information provided in reports to ensure that the grantee is accomplishing the work on schedule and to identify any problems that the grantee may be experiencing in accomplishing that work.

• Onsite Inspection Reports. States must administer a regular and continuing program of onsite inspections of projects. Onsite inspection reports are prepared for all inspections conducted and are included in the official project files maintained by the State. Progress onsite inspection reports occur during the grant project period and are generally combined with the annual performance report or when grant payments are made. Final onsite inspection reports must be submitted to the NPS within 90 days after the date of completing a project and prior to final reimbursement and administrative closeout. Post-completion onsite inspection reports must be completed within 5 years after the final project reimbursement and every 5 years thereafter. If there are problems, the report should include a description of the discrepancy and the corrective action to be taken. Only reports indicating problems are forwarded to the NPS for review and necessary action; all other reports are maintained in State files.

• Financial and Program Performance Reports. In accordance with 2 CFR 200 (Uniform Administrative Requirements, Cost Principles, and Audit Requirements for Federal Awards), grantees must monitor grant and sub-grant supported activities to ensure compliance with applicable federal requirements and to ensure performance goals are being achieved. States must submit reports to NPS at least annually that include performance and financial information.

Request for Reimbursement/Record of Electronic Payment (Form 10-905). States use the Automated Standard Application for Payments (ASAP) system for drawing funds on approved grants. For planning grants, States must submit to NPS a progress report and request for reimbursement before they may request payments. Payments on acquisition and development projects do not require prior approval, but upon completion of an electronic payment on a given date the State must concurrently (within 24 hours) submit a completed NPS Form 10-905, “Record of Electronic Payment” to the LWCF Program offices in Washington, DC and applicable NPS Region.

Recordkeeping. To comply with the grant requirements of 2 CFR 200, States must maintain financial records, supporting documents, statistical records, and all other records pertinent to a grant program for a period of 3 years after final payment on a project. The records must be retained beyond the 3-year period if audit findings have not been resolved. However, to comply with the LWCF Act perpetuity requirements, States must maintain sufficient records to allow them to keep track of parks and other recreation areas that have been assisted.

Title of Collection: Land and Water Conservation Fund State Assistance Program, 54 U.S.C. 200305.

OMB Control Number: 1024-0031.

Form Number: NPS Forms, 10-902A, 10-903, 10-904, 10-904A and 10-905.

Type of Review: Revision of a currently approved collection.

Respondents/Affected Public: States Governments; the Commonwealths of Puerto Rico and the Northern Mariana Islands; the District of Columbia; and the territories of Guam, U.S. Virgin Islands, and American Samoa.

Respondent's Obligation: Required to obtain or retain a benefit.

Frequency of Collection: On occasion.

Total Estimated Annual Nonhour Burden Cost: None.

Activity | Estimated annual respondents | Estimated annual responses | Average completion time per response (hours) | Estimated annual burden hours *
Application (NPS Forms 10-903, and 10-904):
State/Local/Tribal Governments | 56 | 448 | 16 | 7,168
Grant Amendment (NPS Forms 10-903 and 10-904):
State/Local/Tribal Governments | 50 | 180 | 5 | 900
Conversion of Use (NPS Forms 10-902A, 10-903, and 10-904A):
State/Local/Tribal Governments | 50 | 50 | 92.5 | 4,625
Statewide Comprehensive Outdoor Recreation Plan (SCORP):
State/Local/Tribal Governments | 11 | 11 | 600 | 6,600
Open Project Selection Process:
State/Local/Tribal Governments | 11 | 11 | 30 | 330
Request for Public Facility (NPS Form 10-904A):
State/Local/Tribal Governments | 8 | 8 | 16 | 128
Request for Temporary Non-Conforming Use (NPS Form 10-904A):
State/Local/Tribal Governments | 5 | 5 | 16 | 80
Request for Significant Change of Use (NPS Form 10-904):
State/Local/Tribal Governments | 2 | 2 | 16 | 32
Extension of 3-Year Limit for Delayed Outdoor Recreation Development:
State/Local/Tribal Governments | 5 | 5 | 16 | 80
Onsite Inspection Reports:
State/Local/Tribal Governments | 56 | 5040 | 5.75 | 28,980
Financial and Program Performance Reports:
State/Local/Tribal Governments | 56 | 840 | 1 | 840
Recordkeeping:
State/Local/Tribal Governments | 56 | 56 | 40 | 2,240
Request for Reimbursement/Record of Electronic Payment (NPS Form 10-905):
State/Local/Tribal Governments | 56 | 448 | 1 | 448
Proposal to Shelter Facilities:
State/Local/Tribal Governments | 1 | 1 | 16 | 16
Totals | 423 | 7,105 |  | 52,467
* Rounded.

An agency may not conduct or sponsor and a person is not required to respond to a collection of information unless it displays a currently valid OMB control number.

The authority for this action is the Paperwork Reduction Act of 1995 (44 U.S.C. 3501 et seq.).

Phadrea Ponds,
Acting, NPS Information Collection Clearance Officer, National Park Service.

[FR Doc. 2020-01801 Filed 1-30-20; 8:45 am]

BILLING CODE 4312-52-P